DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Union Railroad Company [Docket Number FRA-2004-19260]

The Union Railroad (URR), a Class III switching railroad, seeks a waiver of compliance from the requirements of Title 49 Code of Federal Regulations (CFR) 223.13 Requirements for existing cabooses for nine cabooses to be used in revenue freight service. The URR is engaged in general railroad transportation, and provides railroad switching service primarily to the steel industry. In addition to steel mills, the railroad serves the coal industry through Duquesne Wharf, a coke production facility at Clairton, Pennsylvania, and more than 30 other customers in the automotive, chemical, and aggregate business.

The URR currently consists of 65 miles of main track and approximately 200 miles of yard tracks and sidings, all located within a 10-mile radius in Allegheny County, Pennsylvania. The northernmost point is located at North Bessemer, Pennsylvania, where the railroad proceeds southward through Turtle Creek, East Pittsburgh, Monongahela Junction, Clairton Junction and Clairton.

Laminated safety glass is proposed to be used in lieu of glazing materials that meet the requirements of FRA Type I and Type II. Cabooses on the URR, which have been recently retired from service and scrapped, were operating with laminated safety glazing under a similar waiver granted in 1980 [FRA Docket Number RSGM-80-1]. There have been no reported acts of vandalism or breakage of caboose glazing caused by striking objects. Cabooses C-100, 101, 102, 103, 104, 105, 107, 108, and 109 will be operating over the same routes and schedules as the equipment covered by the previous waiver.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-19260) and must be submitted in triplicate to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on December 13, 2004.
Grady C. Cothen, Jr.,
Acting Associate Administrator for Safety.

[FR Doc. 04-27902 Filed 12-20-04; 8:45 am]

BILLING CODE 4910-06-P